DEPARTMENT OF ENERGY

Federal Energy Regulatory Commission

[Docket No. CP12-467-000]

CenterPoint Energy Gas Transmission Company, LLC; Notice of Request Under Blanket Authorization

Take notice that on May 22, 2012, CenterPoint Energy Gas Transmission Company, LLC (CenterPoint), 1111 Louisiana Street, Houston, Texas, pursuant to its blanket certificate issued in Docket Nos. CP82-384-000, et. al., filed an application in accordance to sections 157.210 and 157.217(b) of the Commission's Regulations under the Natural Gas Act (NGA) as amended, to replace compression facilities at the Ruston Storage Compressor Station located in Lincoln Paris, Louisiana, all as more fully set forth in the application, which is on file with the Commission and open to public inspection. The filing may also be viewed on the web at http://www.ferc.gov using the “eLibrary” link. Enter the docket number excluding the last three digits in the docket number field to access the document. For assistance, contact FERC at FERCOnlineSupport@ferc.gov or call toll-free, (886) 208-3676 or TYY, (202) 502-8659.

The Ruston Storage Compressor Station (Ruston) was constructed in 1969 and consists of one 4,000 horsepower (hp) Worthington MLV-14 reciprocating compressor unit which was originally installed over 40 years ago. CenterPoint has determined that Ruston needs additional operating flexibility to dedicate compression directly to storage injection and since CenterPoint can no longer purchase replacement parts for the existing compressor unit, CenterPoint proposed to replace the Worthington unit with a 4,735 hp CAT unit, comprised of a skid-mounted control enclosure, fuel gas metering skid, and appurtenant facilities. The proposed replacement will (1) increase Line F's available year-round, firm capacity east of Ruston, from 147.4 MMcf/day to 162.5 MMcf/day; (2) increase Ruston's injection deliverability from 33 MMcf/day to 34.5 MMcf/day; and (3) increase Line F's available peak day capacity east of Ruston, from 286.4 MMcf/day to 291.3 MMcf/day. The proposed replacement will not result in any changes to the certificated parameters of the Ruston Storage Field. The estimated cost of the proposed project is $13.9 million, which will be financed by available funds and/or short-term borrowings.

Any questions concerning this application may be directed to B. Michelle Willis, Manager, Regulatory and Compliance, CenterPoint Energy Gas Transmission Company, P.O. Box 21734, Shreveport, Louisiana 71151, (318) 429-3708, or email at Mitchelle.Willis@CenterPointEnergy.com.

This filing is available for review at the Commission or may be viewed on the Commission's Web site at http://www.ferc.gov, using the “eLibrary” link. Enter the docket number excluding the last three digits in the docket number filed to access the document. For assistance, please contact FERC Online Support at FERC OnlineSupport@ferc.gov or call toll-free at (866) 206-3676, or, for TTY, contact (202) 502-8659. Comments, protests and interventions may be filed electronically via the Internet in lieu of paper. See, 18 CFR 385.2001(a)(1)(iii) and the instructions on the Commission's Web site under the “e-Filing” link. The Commission strongly encourages intervenors to file electronically.

Any person or the Commission's staff may, within 60 days after issuance of the instant notice by the Commission, file pursuant to Rule 214 of the Commission's Procedural Rules (18 CFR 385.214) a motion to intervene or notice of intervention and pursuant to Section 157.205 of the regulations under the NGA (18 CFR 157.205), a protest to the request. If no protest is filed within the time allowed therefore, the proposed activity shall be deemed to be authorized effective the day after the time allowed for filing a protest. If a protest is filed and not withdrawn within 30 days after the allowed time for filing a protest, the instant request shall be treated as an application for authorization pursuant to Section 7 of the NGA.

Dated: June 4, 2012.
Kimberly D. Bose,
Secretary.

[FR Doc. 2012-14018 Filed 6-8-12; 8:45 am]

BILLING CODE 6717-01-P